COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that was previously furnished by nonprofit agencies employing persons who are blind or have other severe disabilities.

DATES: Comments must be received on or before: September 23, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSN(s)—Product Name(s):

8115-00-935-5887—Box, Shipping Cleated Plywood, 86″ x 31¾″ x 41″

8115-00-935-6525—Box, Shipping Cleated Plywood, 57″ x 31¾″ x 41″

8115-00-935-6526—Box, Shipping Cleated Plywood, 43″ x 31¾″ x 41″

8115-00-935-6527—Box, Shipping Cleated Plywood, 29″ x 31¾″ x 41″

8115-00-935-6528—Box, Shipping Cleated Plywood, 58″ x 43″ x 41″

8115-00-935-6530—Box, Shipping Cleated Plywood, 86″ x 31¾″ x 21½″

8115-00-935-6531—Box, Shipping Cleated Plywood, 43″ x 31¾″ x 21½″

8115-00-935-6532—Box, Shipping Cleated Plywood, 31¾″ x 29″ x 21½″

Mandatory Source of Supply: Helena Industries, Inc., Helena, MT

Contracting Activity: General Services Administration, New York, NY

Services

Service Type: Laundry Service

Mandatory for: Fleet and Industrial Supply Command, Norfolk, VA

Mandatory Source of Supply: Rappahannock Goodwill Industries, Inc., Fredericksburg, VA

Contracting Activity: Dept. of the Navy, U.S. Fleet Forces Command

Service Type: Food Service Attendant Service

Mandatory for: Norfolk Naval Shipyard: Bldgs: 1SJ-4SJ, 6SJ-8SJ, 11SJ, 12SJ, 14SJ, 19, 26SJ, 38SJ, 41, 43SJ, 51, 59, 67, 69SJ, 79SJ, 82SJ, 89SJ, 91SJ, 94SJ, 124SJ, 164SJ-168SJ, 170SJ-172SJ, + 38 add'l bldgs., Portsmouth, VA

Mandatory Source of Supply: Portco, Inc., Portsmouth, VA

Contracting Activity: Dept. of the Navy, U.S. Fleet Forces Command

Service Type: Laundry Service

Mandatory for: Transient Personnel Unit, BEQ & BOQ: Fleet Anti-Submarine Warfare Center, San Diego, CA; San Diego Naval Air Station: Galley Building 794, San Diego, CA

Mandatory Source of Supply: Job Options, Inc., San Diego, CA

Contracting Activity: Dept. of the Navy, U.S. Fleet Forces Command

Service Type: Janitorial/Custodial Service

Mandatory for: Naval & Marine Corps Reserve Center, Lehigh Valley, PA

Mandatory Source of Supply: Via of the Lehigh Valley, Inc., Bethlehem, PA

Contracting Activity: Dept. of the Navy, U.S. Fleet Forces Command

Service Type: Document Processing Service

Mandatory for: Office of Transportation Audits: 18th & F Streets NW, Washington, DC

Mandatory Source of Supply: Linden Resources, Inc., Arlington, VA

Contracting Activity: Federal Acquisition Service, GSA/FSS Information Technology Center

Michael R. Jurkowski,
Business Management Specialist, Business Operations.

[FR Doc. 2018-18393 Filed 8-23-18; 8:45 am]

BILLING CODE 6353-01-P